DEPARTMENT OF AGRICULTURE

Agricultural Marketing Service

[Docket No. DA-98-02B]

United States Standards for Grades of Dry Whole Milk

AGENCY: Agricultural Marketing Service, USDA.

ACTION: Notice.

SUMMARY: This document gives notice of the availability of revisions to the United States Standards for Grades of Dry Whole Milk. The changes will: (1) Lower the maximum bacterial estimate to not more than 10,000 per gram for U.S. Extra Grade and not more than 50,000 per gram for U.S. Standard Grade, (2) include protein content as an optional test, (3) incorporate maximum titratable acidity requirements, (4) expand the “Test methods” section to allow product evaluation using the latest methods included in the Standard Methods for the Examination of Dairy Products, in the Official Methods of Analysis of the Association of Official Analytical Chemists, and in standards developed by the International Dairy Federation, (5) reference the Food and Drug Administration's standards of identity for dry whole milk, (6) relocate information concerning the optional oxygen content determination, and (7) make editorial changes that would provide consistency with other U.S. grade standards for dairy products.

EFFECTIVE DATE: This notice is effective April 13, 2001.

ADDRESSES: The revised Standards are available from Duane R. Spomer, Chief, Dairy Standardization Branch, Dairy Programs, Agricultural Marketing Service, U.S. Department of Agriculture, Room 2746, South Building, Stop 0230, P.O. Box 96456, Washington, DC 20090-6456 or at www.ams.usda.gov/dairy/stand.htm.

FOR FURTHER INFORMATION CONTACT: Talari V. Jude, Dairy Products Marketing Specialist, Dairy Standardization Branch, Dairy Programs, USDA/AMS/Dairy Programs, Room 2746, South Building, P.O. Box 96456, Washington, DC 20090-6456; (202) 720-7473.

SUPPLEMENTARY INFORMATION: Section 203 (c) of the Agricultural Marketing Act of 1946, as amended, directs and authorizes the Secretary of Agriculture “to develop and improve standards of quality, condition, quantity, grade, and packaging and recommend and demonstrate such standards in order to encourage uniformity and consistency in commercial practices * * *.” AMS is committed to carrying out this authority in a manner that facilitates the marketing of agricultural commodities and will make copies of official standards available upon request. The United States Standards for Grades of Dry Whole Milk no longer appear in the Code of Federal Regulations (CFR) but are maintained by USDA/AMS/Dairy Programs.

AMS is revising the United States Standards for Grades of Dry Whole Milk using the procedures it published in the August 13, 1997, Federal Register and that appear in Part 36 of Title 7 of the CFR.

The notice, which included a request for comments on the proposed changes, was published in the Federal Register on July 28, 2000 (65 FR 46399-46421).

The current United States Standards for Grades of Dry Whole Milk have been in effect since May 13, 1983. AMS initiated a review of these standards and discussed possible changes with the dairy industry. The American Dairy Products Institute (ADPI), a trade association representing the dry whole milk industry, provided specific suggestions, including suggestions to lower the maximum bacterial content requirements and to expand the definition of dry whole milk to include optional ingredients that may be added. AMS proposed changes to reflect improvements in the quality of dry whole milk and marketing changes that have occurred since the standards were last revised. In addition, AMS proposed changes to promote greater uniformity and consistency in the application of these standards.

AMS published the notice in the Federal Register with an outline of the specific proposed changes and provided a comment period of 60 days, which ended on September 26, 2000.

ADPI filed comments expressing their general support for the proposal and provided a specific recommendation to retain roller process product in the standards. This recommendation would reincorporate currently existing roller process product provisions in the “Definitions” section, the “Specifications for U.S. grades” section, and in the summary provided in Table III. ADPI reported that a significant amount of roller process product is manufactured for its unique functional properties. No other comments were received.

Before the proposed changes to the United States Standards for Grades of Dry Whole Milk were published, AMS discussed the issue of roller process product with the dairy industry. At that time there was little interest in retaining specific provisions for roller process product. However, during the comment period ADPI identified manufacturers of roller process product interested in retaining these provisions. AMS agrees to maintain roller process product provisions in the United States Standards for Grades of Dry Whole Milk so that these standards can continue to be used to establish quality standards for roller process product.

There was an inadvertent omission of titratable acidity information in “Table III. Classification According to Laboratory Analysis.” In its proposal, AMS proposed changes that would make titratable acidity a required test to determine U.S. Grade and included information in the “Specifications for U.S. grades” section. AMS intended that this information also be included in the summary table.

In addition to the revisions discussed in the July 28, 2000, Federal Register notice, the following sections of the United States Standards for Grades of Dry Whole Milk are also revised as follows:

Definitions

The “dry whole milk” definition is changed to read as follows:

“Dry whole milk” made by the Spray process or Roller process is the product obtained by removal of water only from pasteurized milk which may have been homogenized. It contains not more than 5 percent by weight of moisture on a milk solids not fat basis and not less than 26 percent but less than 40 per cent by weight of milk fat. It shall conform to the applicable provisions of 21 CFR 131 “Milk and Cream” as issued by the Food and Drug Administration. Alternatively, dry whole milk may be obtained by blending fluid, condensed, or dried nonfat milk with liquid or dried cream or with fluid, condensed, or dried milk, as appropriate, provided the resulting dry whole milk is equivalent in composition to that obtained by drying. It contains the lactose, milk proteins, milkfat, and milk minerals in the same relative proportions as the milk from which it was made. It may be optionally fortified with either Vitamins A or D or both.

Specifications for U.S. Grades

Under the section beginning “(a) U.S. Extra Grade.” paragraphs (7) and (8) are changed to read as follows:

(7) Scorched particle content. Not more than 15.0 mg. for spray process, and 22.5 mg. for roller process. See Table III. Classification According to Laboratory Analysis of this section.

(8) Solubility Index. Not more than 1.0 ml. for spray process, and 15.0 ml. for roller process. See Table III. Classification According to Laboratory Analysis of this section.

Under the section beginning “(b) U.S. Standard Grade.” paragraphs (7) and (8) are changed to read as follows:

(7) Scorched particle content. Not more than 22.5 mg. for spray process, and 32.5 mg. for roller process. See Table III. Classification According to Laboratory Analysis of this section.

(8) Solubility index. Not more than 1.5 ml. for spray process, and 15.0 ml. for roller process. See Table III. Classification According to Laboratory Analysis, of this section.

Table III. Classification According to Laboratory Analysis

Under “Table III. Classification According to Laboratory Analysis” the scorched particle and solubility index information is revised and the titratable acidity information is added to read as follows:

Table III.—Classification According To Laboratory Analysis
Laboratory tests | U.S. Extra Grade | U.S. Standard Grade
Scorched particle content; mg. (max) |  |
Spray process | 15.0 | 22.5
Roller process | 22.5 | 32.5
Solubility index; ml. (max) |  |
Spray process | 1.0 | 1.5
Roller process | 15.0 | 15.0
Titratable acidity (lactic acid); percent (max) | Not more than 0.15 | Not more than 0.17

A typographical error in the ZIP code for the Association of Official Analytical Chemists that appears in the “Test Methods” section of the revised standard should read 20877-2417.

Accordingly, the notice revising the United States Standards for Grades of Dry Whole Milk published in the Federal Register at 65 FR 46399-46421 on July 28, 2000, as well as the changes and corrections made in this notice, are incorporated in the revised United States Standards for Grades of Dry Whole Milk.

The revised United States Standards for Grades of Dry Whole Milk are available either through the address included in this notice or by accessing the AMS Home Page on the Internet at http://www.ams.usda.gov/dairy/stand.htm.

Authority: (7 U.S.C. 1621-1627).

Dated: March 7, 2001.
Kenneth C. Clayton,
Acting Administrator, Agricultural Marketing Service.

[FR Doc. 01-6331 Filed 3-13-01; 8:45 am]

BILLING CODE 3410-02-P